DEPARTMENT OF THE INTERIOR

National Park Service

[NPS-WASO-NAGPRA-NPS0031400; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects in consultation with the appropriate Indian Tribes, and has determined that there is no cultural affiliation between the human remains and associated funerary objects and any present-day Indian Tribes. Representatives of any Indian Tribe not identified in this notice that wish to request transfer of control of these human remains and associated funerary objects should submit a written request to the TVA. If no additional requestors come forward, transfer of control of the human remains and associated funerary objects to the Indian Tribe stated in this notice may proceed.

DATES: Representatives of any Indian Tribe not identified in this notice that wish to request transfer of control of these human remains and associated funerary objects should submit a written request with information in support of the request to the TVA at the address in this notice by March 11, 2021.

ADDRESSES: Dr. Thomas O. Maher, Tennessee Valley Authority, 400 West Summit Hill Drive, WT11C, Knoxville TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of the Tennessee Valley Authority, Knoxville, TN, and stored at the McClung Museum at the University of Tennessee, Knoxville, TN (UTK). The human remains and associated funerary objects were excavated from sites 40BN12, 40DR1, 40DR43, and 40HY13 in Benton, Decatur, and Henry Counties, TN.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by TVA professional staff in consultation with representatives of the Cherokee Nation; Coushatta Tribe of Louisiana; Eastern Band of Cherokee Indians; The Chickasaw Nation; The Muscogee (Creek) Nation; The Osage Nation (previously listed as Osage Tribe); The Seminole Nation of Oklahoma; Thlopthlocco Tribal Town; and the United Keetoowah Band of Cherokee Indians in Oklahoma (hereafter referred to as “The Consulted Tribes”).

History and Description of the Remains

From September 12 to November 22, 1940, human remains representing, at minimum, 186 individuals were removed from site 40BN12, the Eva site in Benton County, TN. This site was excavated as part of TVA's Kentucky Reservoir project by the University of Tennessee, using labor and funds provided by the Works Progress Administration (WPA). Details regarding these excavations are in “Eva An Archaic Site,” authored by Thomas Lewis and Madeline Kneberg Lewis.

The human remains represent 68 females, 50 males, and 68 individuals of undeterminable sex. No known individuals were identified. The 257 associated funerary objects include one animal bone, one animal incisor, three antler flakers, three antler tines, one antler tool, three atlatl hooks, two bannerstones, one beaver molar, five blades, 14 bone awls, 10 bone beads, two bone objects, one bone pendant, one bone spatula, five coprolites, one daub, four dog burials, one dog canine tooth, one dog femur, one drill, two fish hooks, one gallstone, one bag of green mineral, two greenstone gorget fragments, one hair pin, one hammerstone, two knife bases, 25 lignite fragments, 24 fragments of ochre, 21 pebbles/drum teeth, 27 projectile points, 77 snake vertebrae (necklace), one stone, one stone bead, one turkey bone, seven pieces of turtle shell, one whetstone, and one worked bone.

As was common at this time, two perpendicular 3-foot wide trenches were placed across the site. Block excavation proceeded based on the stratigraphic information derived from the trenches. Below 5-8 inches of plow-zone, the excavators identified five strata. The field supervisor, David Osborne, described the first stratum as black humic soil that lacked shell. Stratum II was comprised of a similar black midden soil, but in addition, it contained mussel shell and was nearly a meter thick near the center of the site. Stratum III, described as a sandy loam of variable thickness, was not found throughout the site. Stratum IV was not found in all parts of the site, but was nearly half a meter thick in some areas. Shell was present near the base of this stratum. Stratum V was found in the southern portion of the site. It was sandy and lacked mussel shell. It also had the fewest artifacts. NAGPRA cultural items were found in each stratum. The chipped stone typology developed by Lewis and Lewis from 40BN12 has served as the basis for defining early hunter-gatherer occupations in the mid-continent. The site also produced abundant bone and antler tools such as awls, needles and fishhooks. In his 2014 dissertation, Thaddeus Bissett presented 18 radiocarbon dates from this site. The calibrated calendar dates range from 8991 ± 151 to 6338 ± 61 B.P. Bissett's dissertation also indicated that occupation at the site mostly dates to the Middle Archaic.

From August 8 to October 17, 1941, human remains representing, at minimum, 97 individuals were excavated from the Oak View Landing site, 40DR1, in Decatur County, TN. Using WPA labor and funds, archeologists from the University of Tennessee sought to recover information from this site prior to the construction of TVA's Kentucky Reservoir. The results of these excavations were never published. A short field report by Carrol Burroughs indicates that the site had been disturbed by an early 20th century residence and warehouses associated with the river landing. In his 2014 dissertation, Bissett estimated that a 4,000 square-foot area of the site was dug and 78 features were identified, including 44 pits, 23 postmolds, three caches of river cobbles, two large depressions, and six burned areas. The site plan does not reveal any patterning of the postmolds that would suggest a structure or wall segment. The plan does indicate a concentration of burials in the southwest quadrant of the excavation units. Based on his analysis of hafted bifaces and two radiocarbon dates, Bissett concluded that the primary occupation of the site ranged from 5000 to 4000 B.P.

The fragmentary nature of the human remains made it difficult to determine the age and sex of the individuals. Of those that could be evaluated, 24 were female and 23 were male. They ranged in age from the one month to 50 years. No known individuals were identified. The 244 associated funerary objects include one abrader, 45 animal bones, three animal bone flakers, one animal tooth, one antler, nine antler flakers, four beaver teeth, one blade tip, 10 bone awls, eight bone beads, two bone scrapers, one burned clay object, one piece of chalk, one chipped stone biface, 73 copper beads, one deer astragalus, one deer scapula, one dog tooth, two drilled dog teeth, four drills, two stone flakes, four gorgets, one hammerstone, one hematite, five stone knives, one limestone, two needles, one paint rock, 46 projectile points, four rodent teeth, one sandstone celt sharpener, two stone scrapers, one ceramic sherd, one turtle shell, and two worked bones.

Between August 4-25, 1941, human remains representing, at minimum, one individual were excavated from the West Britt's Landing site, 40DR43, in Decatur County, TN. Charles Nash led a WPA crew in anticipation of the construction of the Kentucky Reservoir. Information on 40DR43 has never been published. For some years prior to the excavation, this area had been used as a landing and loading dock. This disturbance, as well as active erosion by the river, led to the destruction of most of the site. Four strata were defined during excavation. While ceramics were found only in the top-most stratum, stratum three contained most of the cultural deposits. Of the 21 numbered features identified, most were designated as hearths or shallow pits. Two burial units were identified during the excavation, but only one retained recoverable human remains. There are no radiocarbon dates from this site. The human remains belong to an adult male. No known individual was identified. No associated funerary objects are present.

From July through September 1940, human remains representing, at minimum, 78 individuals were excavated from the Kays Landing site, 40HY13, in Henry County, TN. George Lidberg and a WPA crew excavated 40HY13 in anticipation of the construction of the Kentucky Reservoir. The results of these excavations have never been published. Three trenches were excavated to identify the stratigraphy at the site. Five strata were identified. Stratum I, a black clay loam 4 inches to 3 feet thick, covered the entire excavation area and was also the only stratum with prehistoric ceramics. The upper portion was disturbed by cultivation. Stratum II, composed of 30-50% mussel shell mixed with humus and sand, was designated a shell mound by Lidberg. While the full extent of this stratum was not determined, in his 2014 dissertation, Bissett indicated that it was elliptical and extended roughly 23.5 meters north to south and 22.8 meters east to west. The shell content decreased with depth and graded into Stratum III, a thick layer of sand with shell fragments. Stratum III ranged from 2 to 3 feet in thickness. Stratum IV extended over all the excavation units and was 1-2 feet thick. Lidberg described it as bands of carbon-stained sand interspersed with “clean” water lain sands.

Eighteen numbered pits were excavated. Most of them were cylindrical and had flat bottoms. Many displayed evidence of burning along the sides, but not on the bottoms. The eight numbered features included four areas of burned clay or soil that may have represented light structures. Also, two accumulations of charcoal and burned bone and one cache of three nutting stones and three lithic raw material stones were discovered. The post molds do not form a pattern representing structures. Based on radiocarbon dates and diagnostic bifaces, Bissett identified three occupations of this site. The earliest one, represented by strata V and IV, dates to the late Middle Archaic, ca. 5500-5100 calibrated years B.P. Based on the number of burial units (46) and the quantity of artefacts recovered, this was a substantial occupation. The second occupation, represented by strata III and II, dates to the Late Archaic, roughly 4800-3800 years B.P. Although it does include the shell midden, this was a less extensive occupation. The most recent occupation, represented by stratum I, dates sometime after 3800 B.P. It was truncated by modern cultivation.

Of the 78 individuals recovered, 32 were female, 13 were male, and 33 were of indeterminate sex. Their ages ranged from fetus to 60 years. No known individuals were identified. The 955 associated funerary objects include nine animal bones, one antler, two beaver teeth, 48 bone awls (whole and fragments), one bone object, one bone tool, seven chert blades, one chert chisel, 10 chert tools, one gorget, 104 perforated canine teeth, three projectile points, one red ochre, 438 shell beads, two stone beads, and 326 turtle shell fragments.

Determinations Made by the Tennessee Valley Authority

Officials of the Tennessee Valley Authority have determined that:

• Pursuant to 25 U.S.C. 3001(9), the human remains described in this notice are Native American based on their presence in a prehistoric archeological site and osteological analysis.

• Pursuant to 25 U.S.C. 3001(9), the human remains described in this notice represent the physical remains of 362 individuals of Native American ancestry.

• Pursuant to 25 U.S.C. 3001(3)(A), the 1,456 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• The Treaty of October 19, 1818, indicates that the land from which the cultural items were removed is the aboriginal land of The Chickasaw Nation.

• Pursuant to 43 CFR 10.11(c)(1)(ii), the disposition of the human remains may be to The Chickasaw Nation.

• Pursuant to 43 CFR 10.11(c)(4), the Tennessee Valley Authority has agreed to transfer control of the associated funerary objects to The Chickasaw Nation.

Additional Requestors and Disposition

Representatives of any Indian Tribe not identified in this notice that wish to request transfer of control of these human remains and associated funerary objects should submit a written request with information in support of the request to Dr. Thomas O. Maher, Tennessee Valley Authority, 400 West Summit Hill Drive, WT11C, Knoxville, TN 37902-1401, telephone (865) 632-7458, email tomaher@tva.gov, by March 11, 2021. After that date, if no additional requestors have come forward, transfer of control of the human remains and associated funerary objects to The Chickasaw Nation may proceed.

The Tennessee Valley Authority is responsible for notifying The Consulted Tribes that this notice has been published.

Dated: January 15, 2021.
Melanie O'Brien,
Manager, National NAGPRA Program.

[FR Doc. 2021-02609 Filed 2-8-21; 8:45 am]

BILLING CODE 4312-52-P